DEPARTMENT OF HEALTH AND HUMAN SERVICES

Centers for Disease Control and Prevention

[Program Announcement 00103]

C. Everett Koop Community Health Information Center—A National Model for Physician-Based Community Health Information Centers; Notice of Availability of Funds

A. Purpose

The Centers for Disease Control and Prevention (CDC) announces the availability of fiscal year (FY) 2000 funds for a grant program entitled “C. Everett Koop Community Health Information Center—A National Model for Physician-based Community Health Information Centers.”

CDC is committed to achieving the health promotion and disease prevention objectives of “Healthy People 2010” a national activity to reduce morbidity and mortality and improve the quality of life. This program addresses the “Healthy People 2010” focus area of Health Communication.

For the conference copy of “Healthy People 2010,” visit the internet site: http://www.health.gov/healthypeople.

The purpose of the program is to strengthen the C. Everett Koop Community Health Information Center (CHIC) by (1) conducting a follow-up evaluation of CHIC as an effective model for other community health information centers, (2) disseminating the results of the evaluation to professional medical societies nationwide, and (3) conducting a final assessment of the dissemination and use of the model in other communities.

B. Eligible Applicants

Assistance will be provided only to the C. Everett Koop Community Health Information Center, Philadelphia College of Physicians, Philadelphia, PA. No other applications are solicited. The sole source justification is based on congressional language in fiscal year 2000 CDC Appropriation, which provides earmarked funding for the C. Everett Koop Community Health Information Center in Philadelphia, PA.

Note: Public Law 104-65 states that an organization described in section 501(c)(4) of the Internal Revenue Code of 1986 that engages in lobbying activities is not eligible to receive Federal funds constituting an award, grant, cooperative agreement, contract loan, or any other form.

C. Availability of Funds

Approximately $200,000 is available in FY 2000 to fund the C. Everett Koop Community Health Information Center. It is expected that the award will begin on or about September 30, 2000, and will be made for a 12-month budget period within a project period of three years. Funding estimates may change.

Continuation awards within an approved project period will be made on the basis of satisfactory progress as evidenced by required reports and the availability of funds.

D. Program Requirements

In conducting activities to achieve the purpose of this program, the recipient will be responsible for the following:

1. Strengthening the CHIC program by fully implementing the recommendations of the 1999 evaluation related to (a) marketing, promotion, and visibility, (b) resources, and (c) accessibility (See attachment I for recommendations).

2. Encouraging community involvement by developing a network of partners in providing current, complete, and comprehensive health information, and in increasing awareness of the availability of information resources.

3. After the recommendations have been fully implemented, developing a plan for a follow-up evaluation of the CHIC program.

4. Establishing an advisory committee to plan for the dissemination of the evaluation results nationwide.

5. Analyzing data, implementing recommendations from the follow-up evaluation, disseminating the evaluation results to similar medical societies nationwide, and a followup assessment of the dissemination of and use of the model in other communities in years two and three.

E. Application Content

Application

Use the information in the Program Requirements, Other Requirements, and Evaluation Criteria sections to develop the application content. Your application will be evaluated on the criteria listed, so it is important to follow them in laying out your program plan. The narrative should be no more than 20 double-spaced pages, printed on one side, with one inch margins, and unreduced font.

F. Submission and Deadline

Submit the original and two copies of the application PHS Form 398 (OMB Number 0925-0001) (adhere to the instructions on the Errata Instruction Sheet for PHS 398). Forms are available at the following Internet address: www.cdc.gov/. Forms, or in the application kit. On or before June 1, 2000, submit the application to the Grants Management Specialist identified in the “Where to Obtain Additional Information” section of this announcement.

Deadline: The application shall be considered as meeting the deadline above if it is either:

(a) Received on or before the deadline date; or

(b) Sent on or before the deadline date.

(Applicant must request a legibly dated U.S. Postal Service postmark or obtain a legibly dated receipt from a commercial carrier or the U.S. Postal Service. Private metered postmarks shall not be acceptable as proof of timely mailing.)

Late Applications: Applications which do not meet the criteria in (a) or (b) above are considered late applications, will not be considered, and will be returned to the applicant.

G. Evaluation Criteria

The application will be evaluated by an objective review panel based on the following criteria:

Background (10 Points)

The extent to which the applicant demonstrates an understanding of the current literature and theories relevant to the proposed activities.

Program Plan (40 Points)

1. The extent to which the overall program plan has clear objectives that are specific, measurable, and realistic. (10 points)

2. The extent to which the proposed program activities are well-specified, achievable, time-phased, and consistent with the proposed objectives. (10 points)

3. The extent to which the proposed research methods (e.g., data collection, outcome measures, data analyses, etc.) are clear and appropriate, have scientific merit, and are consistent with proposed objectives and activities. (10 points)

4. The degree to which the applicant has met the CDC policy requirements regarding the inclusion of women, ethnic and racial groups in the proposed research. This includes:

a. The proposed plan for the inclusion of both sexes and racial and ethnic minority populations for appropriate representation.

b. The proposed justification when representation is limited or absent.

c. A statement as to whether the design of the study is adequate to measure differences when warranted. (10 points).

Evaluation Plan (20 Points)

The quality of the plan to evaluate the overall project as well as specific program activities in regard to progress, efficacy, and cost benefits.

Collaborations (20 Points)

1. The extent to which the applicant has described a plan for establishing and gathering input from an advisory committee that includes experts with expertise critical to the success of the project. (10 points)

2. The extent to which the applicant has described a plan for establishing collaborative relationships with appropriate organizations, individuals, federal, state, and local health and education agencies to implement and evaluate the proposed activities. (10 points)

Management and Staffing Plan (10 Points)

The extent to which the applicant demonstrates the scientific expertise and capacity to carry out the program objectives and specific project plan.

Budget (Not Scored)

The extent to which the budget and justification are consistent with program objectives and purpose.

Human Subjects (Not Scored)

If the proposed project involves human subjects, whether or not exempt from the Department of Health and Human Services (DHHS) regulations, the extent to which adequate procedures are described for the protection of human subjects.

H. Other Requirements

Technical Reporting Requirements

Provide CDC with original plus two copies of:

1. Progress reports (annual);

2. Financial status report, not more than 90 days after the end of the budget period; and

3. Final financial status and performance reports, no more than 90 days after the end of the project period.

Send all reports to the Grants Management Specialist identified in the “Where to Obtain Additional Information” section of this announcement.

The following additional requirements are applicable to this program. For a complete description of each, see Attachment II in the application kit.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

I. Authority and Catalog of Federal Domestic Assistance Number

This program is authorized under sections 301(a), 317(k)(2) and 1706 [42 U.S.C. 241(a), 247(k)(2) and 300u-5] of the Public Health Services Act, as amended. The Catalog of Federal Domestic Assistance number is 93.135.

J. Where To Obtain Additional Information

This announcement and other CDC program announcements can be found on the CDC home page Internet—http://www.cdc.gov. Click on “Funding” then “Grants and Cooperative Agreements.”

To obtain additional information contact: Cynthia Collins, Grants Management Specialist, Grants Management Branch, Procurement and Grants Office, Centers for Disease Control and Prevention (Centers for Disease Control), 2920 Brandywine Road, Room 3000, Atlanta, GA 30341-4146, Telephone (770) 488-2757, E-mail address:coc9@cdc.gov.

For program technical assistance, contact: Elijah West, National Center for Chronic Disease Prevention and Health Promotion, Centers for Disease Control and Prevention (CDC), 4770 Buford Highway, NE., Mailstop K-44, Atlanta, GA 30341-3724, Telephone 404-488-5549, E-mail address:ejw1@cdc.gov.

Dated: April 28, 2000.
Henry S. Cassell, III,
Acting Director, Procurement and Grants Office, Center for Disease Control And Prevention (CDC).

[FR Doc. 00-11094 Filed 5-3-00; 8:45 am]

BILLING CODE 4163-18-P